DEPARTMENT OF ENERGY

Federal Energy Regulatory Commission

Combined Notice of Filings #1

Take notice that the Commission received the following electric corporate filings:

Docket Numbers: EC24-125-000.

Applicants: Darby Power, LLC, Gavin Power, LLC, Lawrenceburg Power, LLC, Waterford Power, LLC, Lightstone Marketing LLC, ECP Control Co, LLC.

Description: Second Supplemental to Response to March 6, 2025, Deficiency Letter of Darby Power, LLC, et al.

Filed Date: 3/28/25.

Accession Number: 20250328-5455.

Comment Date: 5 p.m. ET 4/18/25.

Docket Numbers: EC25-72-000.

Applicants: MRP Golden, LLC, MRP Buyer, LLC.

Description: Joint Application for Authorization Under Section 203 of the Federal Power Act of CalPeak Power LLC, et al.

Filed Date: 4/1/25.

Accession Number: 20250401-5605.

Comment Date: 5 p.m. ET 4/22/25.

Take notice that the Commission received the following electric rate filings:

Docket Numbers: ER16-1720-030; ER10-2127-027.

Applicants: Invenergy TN LLC, Invenergy Energy Management LLC.

Description: Supplement to 10/31/2024, Notice of Change in Status of Invenergy Energy Management LLC, et al.

Filed Date: 3/28/25.

Accession Number: 20250328-5457.

Comment Date: 5 p.m. ET 4/18/25.

Docket Numbers: ER23-1625-002; ER24-1328-002; ER24-1329-002; ER24-1330-002; ER24-1331-002.

Applicants: Quail Ranch Energy Storage LLC, Quail Ranch Solar LLC, Atrisco Energy Storage LLC, Atrisco Solar LLC, Apex Solar LLC.

Description: Notice of Change in Status of Apex Solar LLC, et al. under.

Filed Date: 3/31/25.

Accession Number: 20250331-5579.

Comment Date: 5 p.m. ET 4/21/25.

Docket Numbers: ER25-791-002.

Applicants: Northern States Power Company, a Minnesota corporation.

Description: Tariff Amendment: 2025-04-02 SA 4419 NSP-Minnkota Power 2nd Sub 1st Rev I&IA to be effective 11/26/2024.

Filed Date: 4/2/25.

Accession Number: 20250402-5075.

Comment Date: 5 p.m. ET 4/23/25.

Docket Numbers: ER25-895-002.

Applicants: BOCA bn, LLC.

Description: Tariff Amendment: MBR DL Response ER25-895 to be effective 1/24/2025.

Filed Date: 4/2/25.

Accession Number: 20250402-5171.

Comment Date: 5 p.m. ET 4/23/25.

Docket Numbers: ER25-1182-001.

Applicants: Duke Energy Indiana, LLC.

Description: Tariff Amendment: DEI-Tipmont Amendment of Wholesale Distribution Agreement RS No. 285 to be effective 6/1/2025.

Filed Date: 4/2/25.

Accession Number: 20250402-5191.

Comment Date: 5 p.m. ET 4/23/25.

Docket Numbers: ER25-1849-000.

Applicants: Public Service Company of New Mexico.

Description: § 205(d) Rate Filing: 2025 Annual Real Power Loss Factor to be effective 6/1/2025.

Filed Date: 4/1/25.

Accession Number: 20250401-5479.

Comment Date: 5 p.m. ET 4/22/25.

Docket Numbers: ER25-1850-000.

Applicants: Duke Energy Progress, LLC, Duke Energy Carolinas, LLC.

Description: § 205(d) Rate Filing: Duke Energy Carolinas, LLC submits tariff filing per 35.13(a)(2)(iii: DEC-DEP Revisions to Joint OATT Formula Transmission Rates Retail Deferral Adj to be effective 6/1/2025.

Filed Date: 4/1/25.

Accession Number: 20250401-5492.

Comment Date: 5 p.m. ET 4/22/25.

Docket Numbers: ER25-1851-000.

Applicants: Mastodon Solar Center, LLC.

Description: Request for Prospective and Limited Waiver, et al. of Mastodon Solar Center, LLC.

Filed Date: 4/1/25.

Accession Number: 20250401-5513.

Comment Date: 5 p.m. ET 4/22/25.

Docket Numbers: ER25-1852-000.

Applicants: Alabama Power Company, Georgia Power Company, Mississippi Power Company.

Description: Tariff Amendment: Alabama Power Company submits tariff filing per 35.15: Crimson Solar (Enterprise Solar) LGIA Termination Filing to be effective 4/2/2025.

Filed Date: 4/2/25.

Accession Number: 20250402-5076.

Comment Date: 5 p.m. ET 4/23/25.

Docket Numbers: ER25-1853-000.

Applicants: Alabama Power Company, Georgia Power Company, Mississippi Power Company.

Description: Tariff Amendment: Alabama Power Company submits tariff filing per 35.15: Dellsol (Dellwood Solar) LGIA Termination Filing to be effective 4/2/2025.

Filed Date: 4/2/25.

Accession Number: 20250402-5077.

Comment Date: 5 p.m. ET 4/23/25.

Docket Numbers: ER25-1854-000.

Applicants: Midcontinent Independent System Operator, Inc., Montana-Dakota Utilities Co., Montana-Dakota Utilities Co.

Description: § 205(d) Rate Filing: Montana-Dakota Utilities Co. submits tariff filing per 35.13(a)(2)(iii: 2025-04-02_SA 4329 4330 MDU-Bowman Wind MPFP 1st Rev FCA & FSA to be effective 6/2/2025.

Filed Date: 4/2/25.

Accession Number: 20250402-5078.

Comment Date: 5 p.m. ET 4/23/25.

Docket Numbers: ER25-1855-000.

Applicants: PJM Interconnection, L.L.C.

Description: § 205(d) Rate Filing: Original NSA, SA No. 7634; Queue No. AF2-354; Cancellation of SA No. 7444 to be effective 6/2/2025.

Filed Date: 4/2/25.

Accession Number: 20250402-5090.

Comment Date: 5 p.m. ET 4/23/25.

Docket Numbers: ER25-1856-000.

Applicants: PJM Interconnection, L.L.C.

Description: § 205(d) Rate Filing: Original GIA, Service Agreement No. 7609; Project Identifier No. AG1-302 to be effective 3/3/2025.

Filed Date: 4/2/25.

Accession Number: 20250402-5122.

Comment Date: 5 p.m. ET 4/23/25.

Docket Numbers: ER25-1857-000.

Applicants: Tucson Electric Power Company.

Description: Initial rate filing: Rate Schedule No. 358 to be effective 4/3/2025.

Filed Date: 4/2/25.

Accession Number: 20250402-5127.

Comment Date: 5 p.m. ET 4/23/25.

Docket Numbers: ER25-1858-000.

Applicants: Tri-State Generation and Transmission Association, Inc.

Description: § 205(d) Rate Filing: Amendment to Rate Schedule FERC No. 2 to be effective 6/2/2025.

Filed Date: 4/2/25.

Accession Number: 20250402-5134.

Comment Date: 5 p.m. ET 4/23/25.

Docket Numbers: ER25-1859-000.

Applicants: Duke Energy Carolinas, LLC.

Description: § 205(d) Rate Filing: DEC—Emergency Energy Agreements and Interconnection Agreements to be effective 6/2/2025.

Filed Date: 4/2/25.

Accession Number: 20250402-5150.

Comment Date: 5 p.m. ET 4/23/25.

Docket Numbers: ER25-1860-000.

Applicants: Duke Energy Progress, LLC.

Description: § 205(d) Rate Filing: DEP—Emergency Energy Agreements and Interconnection Agreements to be effective 6/2/2025.

Filed Date: 4/2/25.

Accession Number: 20250402-5166.

Comment Date: 5 p.m. ET 4/23/25.

Docket Numbers: ER25-1861-000.

Applicants: El Paso Electric Company.

Description: Tariff Amendment: Termination of Service Agreement No. 380, LGIA-Hecate Energy Santa Teresa 1 LLC to be effective 1/28/2025.

Filed Date: 4/2/25.

Accession Number: 20250402-5170.

Comment Date: 5 p.m. ET 4/23/25.

Docket Numbers: ER25-1862-000.

Applicants: El Paso Electric Company.

Description: Tariff Amendment: Termination of Service Agreement No. 381, LGIA-Hecate Energy Santa Teresa 2 LLC to be effective 1/28/2025.

Filed Date: 4/2/25.

Accession Number: 20250402-5172.

Comment Date: 5 p.m. ET 4/23/25.

Docket Numbers: ER25-1863-000.

Applicants: PJM Interconnection, L.L.C.

Description: § 205(d) Rate Filing: Original GIA Service Agreement No. 7613; Project Identifier No. AF2-382 to be effective 3/3/2025.

Filed Date: 4/2/25.

Accession Number: 20250402-5192.

Comment Date: 5 p.m. ET 4/23/25.

Docket Numbers: ER25-1864-000.

Applicants: Public Service Company of New Mexico.

Description: § 205(d) Rate Filing: 1st Revised SJ Participation Agreement 180 to be effective 3/8/2025.

Filed Date: 4/2/25.

Accession Number: 20250402-5202.

Comment Date: 5 p.m. ET 4/23/25.

Take notice that the Commission received the following electric securities filings:

Docket Numbers: ES25-38-000.

Applicants: ALLETE, Inc.

Description: Application Under Section 204 of the Federal Power Act for Authorization to Issue Securities of ALLETE, Inc. under ES25-38.

Filed Date: 3/31/25.

Accession Number: 20250331-5575.

Comment Date: 5 p.m. ET 4/21/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: April 2, 2025.
Carlos D. Clay,
Deputy Secretary.

[FR Doc. 2025-05995 Filed 4-7-25; 8:45 am]

BILLING CODE 6717-01-P